NATIONAL SCIENCE FOUNDATION

Advisory Committee for Environmental Research and Education

AGENCY: Office of Integrative Activities, Office of the Director, National Science Foundation.

ACTION: Notice of open meeting: Cancellation.

SUMMARY: On February 21, 2020, the National Science Foundation published a notice of open meeting announcing a meeting on March 25-26, 2020 of the Advisory Committee for Environmental Research and Education. This notice announces the cancellation of this meeting.

DATES: The meeting scheduled for March 25-26, 2020, announced in the February 21, 2020, issue of the Federal Register (FR Doc. 2020-03469, 85 FR 10197), is cancelled.

FOR FURTHER INFORMATION CONTACT: Brandi Schottel, Executive Secretary, National Science Foundation, 2415 Eisenhower Avenue, Alexandria, VA 22314; Phone: (703) 292-4798; email: bschotte@nsf.gov.

Dated: March 17, 2020.
Crystal Robinson,
Committee Management Officer.

[FR Doc. 2020-05974 Filed 3-20-20; 8:45 am]

BILLING CODE 7555-01-P